DEPARTMENT OF THE INTERIOR

Fish and Wildlife Service

[FWS-HQ-IA-2015-N101; FXIA16710900000-156-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
48515B | Duke Lemur Center | 79 FR 62662; October 20, 2014 | November 25, 2014.
33743B | Michael Luzich | 79 FR 65980, November 6, 2014 | April 07, 2015.
33291B | Corey Knowlton | 79 FR 65980, November 6, 2014 | April 20, 2015.
49163B | Xochitl De La Rosa Reyna, Texas A&M University | 79 FR 76347; December 22, 2014 | April 30, 2015.
48474B | Christina Tellez, University of California | 80 FR 255; January 5, 2015 | April 30, 2015.
42545B | Disney's Animal Kingdom | 80 FR 3249, January 22, 2015 | April 08, 2015.
45549B | Turtle Conservancy | 80 FR 8896; February 19, 2015 | April 21, 2015.
839363 | Lincoln Childrens' Zoo | 80 FR 13605; March 16, 2015 | April 21, 2015.
55131B | Carl Pennella | 80 FR 13605; March 16, 2015 | April 21, 2015.
55885B | John Holz | 80 FR 13605; March 16, 2015 | April 21, 2015.
56756B | Cooper Ribman | 80 FR 13605; March 16, 2015 | April 21, 2015.
56486B | Gregory Loman | 80 FR 13605; March 16, 2015 | April 21, 2015.
55106B | Donald McNeeley | 80 FR 13605, March 16, 2015 | April 23, 2015.
55182B | Sarah Sackman | 80 FR 13605, March 16, 2015 | April 28, 2015.
219999 | USFWS/Ecological Services Field Office | 80 FR 16694; March 30, 2015 | May 1, 2015.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2015-11863 Filed 5-15-15; 8:45 am]

BILLING CODE 4310-55-P